DEPARTMENT OF THE INTERIOR

National Park Service

Notice of Intention To Extend Concession Contracts to: December 31, 2001

SUMMARY: Pursuant to 36 CFR part 51, section 51.23, public notice is hereby given that the National Park Service proposes to extend the following expiring concession contracts.

Concessioner identification No. | Concessioner name | Park
JOTR001 | Joshua Tree National Park Association | Joshua Tree National Park.
OLYM047 | Allen Rancourt | Olympic National Park.
OLYM064 | Sure Fire Wood | Olympic National Park.

EFFECTIVE DATE: April 1, 2001.

SUPPLEMENTARY INFORMATION: All of the listed concession authorizations will expire on or before April 30, 2001. The National Park Service has determined that the proposed short-term extensions are necessary in order to avoid an interruption of visitor services and has taken all reasonable and appropriate steps to consider alternatives to avoid such interruption. These extensions will allow the National Park Service to complete and issue prospectuses leading to the competitive selection of concessioners for new longer-term concession contracts covering these operations. This short-term extension will be until December 31, 2001. Information about this notice can be sought from: National Park Service, Chief, Concession Program Management Office, Pacific West Region, Attn: Mr. Tony Sisto, 600 Harrison Street, Suite 600, San Francisco, California 94107-1372, or call (415) 427-1366.

Dated: February 27, 2001.
James R. Shevock,
(Acting) Regional Director, Pacific West Region.

[FR Doc. 01-6852 Filed 3-19-01; 8:45 am]

BILLING CODE 4310-70-P